SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before October 5, 2007.

ADDRESSES: Send all comments regarding whether this information collection is necessary for the proper performance of the function of the agency, whether the burden estimates are accurate, and if there are ways to minimize the estimated burden and enhance the quality of the collection, to Pamela Fenderson, Program Analyst, Office of Business Development, Small Business Administration, 409 3rd Street SW., Suite 8300, Washington, DC 20416.

FOR FURTHER INFORMATION CONTACT: Pamela Fenderson, Program Analyst, Office of Business Development, 202-205-7408 pamela.fenderson@sba.gov Curtis B. Rich, Management Analyst, 202-205-7030 curtis.rich@sba.gov.

SUPPLEMENTARY INFORMATION: Title: “8(a) Annual Update”.

Description of Respondents: 8(a) Program Participants.

Form No's: 1450.

Annual Responses: 6,700.

Annual Burden: 7,258.

Jacqueline White,
Chief, Administrative Information Branch.

[FR Doc. E7-15183 Filed 8-3-07; 8:45 am]

BILLING CODE 8025-01-P